DEPARTMENT OF TRANSPORTATION

Federal Transit Administration

Notice To Rescind Notice of Intent To Prepare an Environmental Impact Statement Virginia Beach Transit Extension Study, Virginia

AGENCY: Federal Transit Administration (FTA), DOT.

ACTION: Rescind Notice of Intent (NOI) to prepare an Environmental Impact Statement (EIS).

SUMMARY: FTA in cooperation with Hampton Roads Transit (HRT) is issuing this notice to advise the public that the NOI to prepare an EIS for the Virginia Beach Transit Extension Study (VBTES) is being rescinded.

FOR FURTHER INFORMATION CONTACT: Mr. Ryan Long, Community Planner, Federal Transit Administration Region III, 1760 Market St, Suite 500 Philadelphia, PA 19103, phone 215-656-7051, email ryan.long@dot.gov.

SUPPLEMENTARY INFORMATION: FTA, as the lead Federal agency, and HRT, as the project sponsor, published an NOI in the Federal Register on August 14, 2013 (FR Volume 78, Number 157) to prepare an EIS for the VBTES. The VBTES EIS evaluated extending transit service from the eastern terminus of HRT's existing Light Rail Transit (LRT) system, “The Tide,” at Newtown Road in Norfolk to the Virginia Beach oceanfront. The extension would travel either along the former Norfolk Southern Railroad right-of-way (NSRR ROW) that runs from Newtown Road to Birdneck Road, or along the NSRR ROW to Laskin Road then onto Birdneck Road and terminating at the Virginia Beach oceanfront.

HRT was intending to seek Capital Investment Grant Program (CIG) funding from FTA for one or more of the alternatives that were examined in the Draft EIS. The CIG program, more commonly known as the New Starts, Small Starts, and Core Capacity program, involves a multi-year, multi-step process that project sponsors must complete before a project is eligible for funding. The steps in the process and the basic requirements of the program can be found on FTA's Web site at www.fta.dot.gov.

Since FTA approval of the Draft EIS on March 3, 2015, HRT has re-examined funding options and elected to not pursue the CIG program or other Federal transportation funding. Therefore, FTA is rescinding the August 14, 2013 NOI.

Comments and questions concerning this notice should be directed to FTA at the address provided above.

Terry Garcia Crews,
Regional Administrator, FTA Region III.

[FR Doc. 2016-02200 Filed 2-4-16; 8:45 am]

BILLING CODE P